DEPARTMENT OF LABOR

Employment and Training Administration

Agency Information Collection Activities; Comment Request; Trade Adjustment Assistance Community College and Career Training Grant Program Reporting Requirements

ACTION: Notice.

SUMMARY: The Department of Labor (DOL), Employment and Training Administration is soliciting comments concerning a proposed extension for the authority to conduct the Information Collection Request (ICR) titled, “Trade Adjustment Assistance Community College and Career Training Grant Program Reporting Requirements.” This comment request is part of continuing Departmental efforts to reduce paperwork and respondent burden in accordance with the Paperwork Reduction Act of 1995 (PRA).

DATES: Consideration will be given to all written comments received by April 3, 2018.

ADDRESSES: A copy of this ICR with applicable supporting documentation; including a description of the likely respondents, proposed frequency of response, and estimated total burden may be obtained free by contacting Kristen Milstead by telephone at 202-693-3949, TTY 1-877-889-5627, (these are not toll-free numbers) or by email at taaccct@dol.gov.

Submit written comments about, or requests for a copy of, this ICR by mail or courier to the U.S. Department of Labor, Employment and Training Administration, Division of Strategic Investments, Trade Adjustment Assistance Community College and Career Training Grant Program, 200 Constitution Avenue NW, Room, C-4518, Washington, DC 20210; by email: taaccct@dol.gov; or by Fax 202-693-3890.

FOR FURTHER INFORMATION CONTACT: Kristen Milstead by telephone at 202-693-3949 (this is not a toll-free number) or by email at taaccct@dol.gov.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA requires grantees to submit Quarterly Narrative Progress Reports with a narrative summary of the capacity building progress as identified by the grantee in their project work plan. Every fourth quarter, grantees submit an Annual Performance Report with standardized outcome measures that will include aggregate data for program participants for the following ten outcome measures: Unique participants served/enrolled; total number of participants who have completed a grant-funded program of study; total number still retained in their programs of study; total number retained in other education programs; total number of credit hours completed; total number of earned credentials; total number pursuing further education after program of study completion; total number employed after program of study completion; total number retained in employment after program of study completion; and the total number of those employed at enrollment who receive a wage increase post-enrollment.

These reports help ETA gauge the effects of the TAACCCT grants, respond to inquiries about the progress and successes of the TAACCCT grants from Congress and other stakeholders, identify grantees that could serve as useful models, target technical assistance appropriately, and provide data for the national evaluation of the TAACCCT grants. ETA is seeking an extension for the collection of the final Annual Performance Report and the final Quarterly Narrative Progress Report from the fourth and final round of grants. Section 1872 of the Trade and Globalization Adjustment Assistance Act of 2009 (Division B, Title I, Subtitle I of the American Recovery and Reinvestment Act of 2009, Pub. L. 111-5) (19 U.S.C 2372a), as amended by the Health Care and Education Reconciliation Act of 2010, Public Law 111-152, authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0489.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Trade Adjustment Assistance Community College and Career Training Grant Reporting Requirements.

Form: ETA 9159 and 9160.

OMB Control Number: 1205-0489.

Affected Public: Private sector, not for profit.

Estimated Number of Respondents: 71 grantees.

Frequency: Quarterly.

Total Estimated Annual Responses: 173,494.

Estimated Average Time per Response: 16 hours.

Estimated Total Annual Burden Hours: 11,011 hours.

Total Estimated Annual Other Cost Burden: $0.

Authority: 44 U.S.C. 3506(c)(2)(A).

Rosemary Lahasky,
Deputy Assistant Secretary, Employment and Training Administrations.

[FR Doc. 2018-02048 Filed 2-1-18; 8:45 am]

BILLING CODE 4510-FN-P